DEPARTMENT OF ENERGY

Federal Energy Regulatory Commission

[Docket No. CP06-9-002]

Florida Gas Transmission Company, LLC; Notice of Filing

July 20, 2009.

Take notice that on July 2, 2009, the Florida Department of Transportation (FDOT) made a filing styled as a “Protest of Florida Department of Transportation and Motion for Order Directing Compliance, Motion for Order to Show Cause, and Request for Expedited Treatment.” In the filing FDOT alleges that Florida Gas Transmission Company, LLC (FGT) has failed to comply with the Commission's May 3, 2006 and October 10, 2008 orders regarding the abandonment of certain facilities located in Broward County, Florida.¹ Specifically, FDOT asserts that FGT has failed to completely abandon a segment of its 18-inch diameter line between Mileposts 882.61 and 882.95 as authorized by the May 3, 2006 Order and directed by the October 10, 2008 Order. In addition, FDOT requests that the Commission issue an order directing FGT to depressurize, hold in reserve and cease using as a mainline facility a 0.4 mile, 24-inch diameter pipeline segment between Mileposts 882.55 and 882.95. Finally, FDOT requests that the Commission issue an order directing FGT to show cause as to why it should not be required to abandon and grout this segment of 24-inch diameter pipe between Mileposts 882.55 and 882.95. FDOT's filing is on file with the Commission and open to public inspection. This filing may also be viewed on the Commission's Web site at http://www.ferc.gov using the “eLibrary” link. Enter the docket number, excluding the last three digits, in the docket number field to access the document. For assistance, call (866) 208-3676 or TTY, (202) 502-8659.

¹ Florida Gas Transmission Co., 115 FERC ¶ 61,140 (2006) and Florida Gas Transmission Co., 125 FERC ¶ 61,032 (2008) (May 3, 2006 Order and October 10, 2008 Order, respectively).

Any person wishing to become a party to this proceeding should, on or before the comment date listed below, file with the Federal Energy Regulatory Commission, 888 First Street, NE., Washington, DC 20426, a motion to intervene in accordance with the requirements of the Commission's Rules of Practice and Procedure (18 CFR 385.214 or 385.211) and the Regulations under the Natural Gas Act (18 CFR 157.10).

Motions to intervene, protests and comments may be filed electronically via the internet in lieu of paper; see, 18 CFR 385.2001(a)(1)(iii) and the instructions on the Commission's Web site under the “e-Filing” link. The Commission strongly encourages electronic filings.

Comment Date: August 31, 2009.

Kimberly D. Bose,
Secretary.

[FR Doc. E9-17697 Filed 7-23-09; 8:45 am]

BILLING CODE 6717-01-P